DEPARTMENT OF TRANSPORTATION

Maritime Administration

[Docket No. MARAD-2020-0085]

Request for Comments on the Approval of a Previously Approved Information Collection: Determination of Fair and Reasonable Rates for Carriage of Agriculture Cargoes on U.S. Commercial Vessels

AGENCY: Maritime Administration, DOT.

ACTION: Notice and request for comments.

SUMMARY: The Maritime Administration (MARAD) invites public comments on our intention to request the Office of Management and Budget (OMB) approval to renew an information collection. The information to be collected will be used by the Maritime Administration in determining fair and reasonable guideline rates for the carriage of preference cargoes on U.S.-flag vessels. In addition, U.S.-flag vessel operators are required to submit Post Voyage Reports to the Maritime Administration after completion of a cargo preference voyage. We are required to publish this notice in the Federal Register by the Paperwork Reduction Act of 1995.

DATES: Comments must be submitted on or before August 18, 2020.

ADDRESSES: You may submit comments [identified by Docket No. MARAD-2019-0085] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information.

The agency will summarize and/or include your comments in the request for OMB's clearance of this information collection.

FOR FURTHER INFORMATION CONTACT: Albert Bratton, Telephone Number: (202) 366-5769, Office of Business Finance, Maritime Administration, U.S. Department of Transportation, 1200 New Jersey Avenue SE, Washington, DC 20590.

SUPPLEMENTARY INFORMATION: Title: Determination of Fair and Reasonable Rates for Carriage of Agriculture Cargoes on U.S.-Commercial Vessels.

OMB Control Number: 2133-0514.

Type of Request: Renewal of a previously approved collection.

Abstract: 46 U.S.C. 55305 and the Food Security Act of 1985 require that at least 50% of U.S. government sponsored agriculture bulk and packaged cargoes be shipped on U.S.-flag vessels to the extent that such vessels are available at fair and reasonable rates. Pursuant to 46 CFR part 381, Government agencies must comply with the cargo preference laws and must submit data to the Maritime Administration (MARAD) on U.S. and foreign-flag carriage of preference cargoes under their control. Part 382 requires U.S. operators to submit specific data to MARAD regarding fair and reasonable guideline rates for the carriage of preference cargoes on U.S.-flag vessels. The collection of vessel data contributes toward the U.S. Department of Transportation's strategic goal of National Security. In addition, this data collection requires U.S.-flag operators to submit vessel-operating costs and capital costs data to MARAD officials on an annual basis. This information is needed by MARAD to establish fair and reasonable guideline rates for carriage of specific cargoes on U.S. vessels.

Respondents: U.S. citizens who own and operate U.S.-flag vessels.

Affected Public: Business or other for profit.

Estimated Number of Respondents: 41.

Estimated Number of Responses: 68.

Estimated Hours per Response: 1-4 hours.

Annual Estimated Total Annual Burden Hours: 176.

Frequency of Response: Annually.

(Authority: The Paperwork Reduction Act of 1995; 44 U.S.C. Chapter 35, as amended; and 49 CFR 1.93.)

* * * * *

Dated: June 15, 2020.
By Order of the Maritime Administrator.
T. Mitchell Hudson, Jr.,
Secretary, Maritime Administration.

[FR Doc. 2020-13220 Filed 6-18-20; 8:45 am]

BILLING CODE 4910-81-P